DEPARTMENT OF HEALTH AND HUMAN SERVICES

Centers for Disease Control and Prevention

[60Day-14-14VK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Leroy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Improving the Understanding of Traumatic Brain Injury through Policy and Program Evaluation Research—New—National Center for Injury Prevention and Control (NCIPC), Centers for Disease Control and Prevention (CDC).

Background and Brief Description

Traumatic brain injury (TBI) is one of the highest priorities in public health because of its magnitude, economic and human impact, and preventability. Improving the recognition and management of mild TBIs—such as concussions that occur during youth sports—can help reduce the harm caused by such injuries and prevent future consequences.

More than 7 million U.S. high school students participate in organized sports each year. Sports-related concussions are common injuries among youth and have potentially serious consequences. CDC's public health efforts have included the development of the “Heads Up” education campaign, which focuses on raising awareness of the signs and symptoms of concussions and improving the management of concussions among youth athletes.

Individual states and the District of Columbia have taken the initiative and passed laws aimed at improving the management of youth sports-related concussions. In 2009, Washington State enacted the first such law to manage youth sports-related concussions—the Lystedt Law. Since there is currently no model law for managing youth sports-related concussions, 48 other states and the District of Columbia have developed their own laws independently. While there are similarities across the states, an examination of the laws shows considerable variation in the breadth and scope of the laws. Despite the proliferation of state laws and the dissemination of concussion education materials, little is known about the reach, use, and effectiveness of these laws in improving the management of youth sports-related concussions.

The major danger faced by young athletes who have experienced a concussive event is that they are allowed to return to play while still experiencing symptoms. If the state laws are effective, they should reduce the number of athletes who return to play while symptomatic.

The primary goal of the current proposal is to examine the relationship between state laws aimed at managing youth sports-related TBIs and youth athletes returning to play while symptomatic. In addition, the study also intends to assess variations in knowledge, attitudes, and behavior regarding concussions; the use of concussion education materials, including Heads Up; and state policies governing requirements for identification and management of concussions in youth athletics. With the data collected during the proposed study, CDC will be able to assess the effectiveness of state laws in reducing the number of youth athletes who return to play with concussion symptoms, the general knowledge and understanding of concussions, and the effectiveness of education and training about concussions. This will enable CDC to make recommendations for improving state policies and improve the agency's Heads Up concussion education training program.

CDC requests OMB approval for one year to collect data from three national subsamples: (1) Soccer coaches, coaching boys and girls ages 14-18 on club soccer teams; (2) boys and girls youth soccer players ages 14-18 playing club soccer; and (3) parents of boys and girls ages 14-18 who are club soccer players. The samples will be drawn from the U.S. Youth Soccer Association, a national youth soccer organization with over 3 million youth players.

CDC will use an online data collection tool for a pre-season survey, followed by a brief weekly surveillance survey administered through an automated phone system once a week for ten weeks. Respondents will receive a randomly generated identification number that will be used to complete the online and phone surveys. The database linking these identification numbers to participant data will only be available to a limited number of evaluation contractor staff.

The pre-season survey will be administered to the coaches, players, and parents, while the weekly surveillance survey will only be completed by players and parents. Athletes who report suffering a hit with associated concussive symptoms and the parent of such an athlete will also be administered a phone interview about the athlete's symptoms and management. These electronic data collection tools provide CDC the means to efficiently collect data from a large number of respondents from across the country.

There are no costs to respondents other than their time.

Estimated Annualized Burden Hours
Type of respondents | Form name | Number of respondents | Number of responses per respondent | Average burden per response (hours) | Total burden (hours)
U.S. Youth Soccer Coach | Pre-season survey | 115 | 1 | 10/60 | 19
Parent | Pre-season survey | 1,294 | 1 | 10/60 | 216
Parent | Weekly Surveillance survey | 970 | 10 | 3/60 | 485
Parent | Injury Follow-up survey | 576 | 1 | 10/60 | 96
Athlete | Pre-season survey | 1,294 | 1 | 10/60 | 216
Athlete | Weekly Surveillance survey | 970 | 10 | 3/60 | 485
Athlete | Injury Follow-up survey | 576 | 1 | 10/60 | 96
Total |  |  |  |  | 1,613

Leroy A. Richardson,
Chief, Information Collection Review Office, Office of Scientific Integrity, Office of the Associate Director for Science, Office of the Director, Centers for Disease Control and Prevention.

[FR Doc. 2014-09763 Filed 4-29-14; 8:45 am]

BILLING CODE 4163-18-P